OFFICE OF NATIONAL DRUG CONTROL POLICY

Paperwork Reduction Act; 30-Day Notice

AGENCY: Office of National Drug Control Policy.

The Office of National Drug Control Policy (ONDCP) proposes the collection of information concerning arrestee drug use. ONDCP hereby invites interested persons to submit comments to the Office of Management and Budget (OMB) regarding any aspect of this proposed effort.

Type of Information Collection: New collection.

Title: Arrestee Drug Abuse Monitoring (ADAM II) Program Questionnaire.

Use: The information will support statistical trend analysis.

Frequency: Five sites will each conduct one cycle of surveys from 350 arrestees per cycle.

Annual Number of Respondents: 1750.

Total Annual Responses: 1750.

Average Burden per Response: 26 minutes.

Total Annual Hours: 765.

Send comments to: Fe Caces, COTR, ADAM II, Executive Office of the President, Office of National Drug Control Policy, Research & Data Analysis, Washington, DC 20503 or by email at Maria_Fe_Caces@ONDCP.EOP.GOV.

Comments must be received within 30 days. Request additional information by facsimile transmission to (202) 395-6562, attention: Fe Caces, ONDCP, Office of Research & Data Analysis.

Dated: February 20, 2013.
Daniel R. Petersen,
Deputy General Counsel.

[FR Doc. 2013-06792 Filed 3-25-13; 8:45 am]

BILLING CODE 3180-02-P